DEPARTMENT OF THE INTERIOR

Geological Survey

Scientific Earthquake Studies Advisory Committee

AGENCY: Geological Survey.

ACTION: Notice of meeting.

SUMMARY: Pursuant to Pub. L. 106-503, The Scientific Earthquake Studies Advisory Committee (SESAC) will hold its fourth meeting. The meeting location is the University of Southern California, 167 North Science Hall, Southern California Earthquake Center Board Room, Los Angeles, California 90089. The Committee is comprised of members from academia, industry, and State government. The Committee shall advise the Director of the U.S. Geological Survey (USGS) on matters relating to the USGS's participation in the National Earthquake Hazards Reduction Program.

The Committee will review the U.S. Geological Survey's National Earthquake Hazards Reduction Program earthquake hazard assessment activities in California. This will include a critique of the goals and objectives of the Program in California over the next 5 years in earthquake hazards assessments and in research on earthquake processes and effects.

Meetings of the Scientific Earthquake Studies Advisory Committee are open to the public.

DATES: June 11, 2003, commencing at 9 a.m. and adjourning at 4:30 p.m. on June 12, 2003.

FOR FURTHER INFORMATION CONTACT: Dr. John R. Filson, U.S. Geological Survey, 12202 Sunrise Valley Drive, Reston, Virginia 20192, (703) 648-6785.

Dated: April 29, 2003.
R.K. Kotra,
Acting Associate Director for Geology.

[FR Doc. 03-11923 Filed 5-12-03; 8:45 am]

BILLING CODE 4310-Y7-M